DEPARTMENT OF HEALTH AND HUMAN SERVICES

Public Stakeholder Listening Session on Strategies for Improving Parity for Mental Health and Substance Use Disorder Coverage

AGENCY: Assistant Secretary for Planning and Evaluation, HHS.

ACTION: Notice of meeting.

SUMMARY: This notice announces a public stakeholder listening session on Strategies for Improving Parity for Mental Health and Substance Use Disorder Coverage. The public meeting, mandated in the 21st Century Cures Act, seeks public comment on improved Federal and State coordination related to section 2726 of the Public Health Service Act, section 712 of the Employee Retirement Income Security Act of 1974, section 9812 of the Internal Revenue Code of 1986, and any comparable provisions of State law. The public meeting will seek participation from the required stakeholders in statute, State health commissioners, State agencies, State attorneys general, the National Association of Insurance Commissioners, health insurance issuers, providers of mental health and substance use disorder treatment, employers, and patients or their advocates. Written comments may be submitted to parity@hhs.gov for two weeks prior to the meeting through August 10, 2017.

DATES: The meeting will be held on July 27, 2017 from 9:30 a.m. to 11:30 a.m. EDT.

ADDRESSES: The meeting will be held in the first floor auditorium in the Hubert H. Humphrey Building, 200 Independence Avenue SW., Washington, DC 20201.

Comments: The time for oral comments will be limited to five (5) minutes per individual. In lieu of oral comments, formal written comments may be submitted for the record to Laurel Fuller, ASPE, 200 Independence Avenue SW., Room 424E, Washington, DC 20201; all comments should be submitted to parity@hhs.gov. Those submitting comments should identify themselves and any relevant organizational affiliations.

FOR FURTHER INFORMATION CONTACT: Laurel Fuller (202) 690-5949, Laurel.Fuller@hhs.gov.

SUPPLEMENTARY INFORMATION: Procedure and Agenda: This meeting is open to the public. Please allow 45 minutes to go through security and walk to the meeting room. The meeting will also be webcast at www.hhs.gov/live.

Note: Seating will be limited to 75 attendees; this listening session will also be webcast online at www.hhs.gov/live. Those wishing to attend the meeting must send an email to parity@hhs.gov and put “July 27 Public Meeting” in the Subject line by Friday, July 21, 2017 so that their names may be put on a list of expected attendees and forwarded to the security officers the Humphrey Building. In the email please also indicate which group you are representing (State health commissioners, State agencies, State attorneys general, the National Association of Insurance Commissioners, health insurance issuers, providers of mental health and substance use disorder treatment, employers, and patients or their advocates; or other). Any interested member of the public who is a non-U.S. citizen should include this information at the time of registration to ensure that the appropriate security procedure to gain entry to the building is carried out. Although the meeting is open to the public, procedures governing security and the entrance to federal buildings may change without notice. If you wish to make a public comment, you must note that within your email.

Authority: 114-255 Pub. L. 114-255.

Dated: June 26, 2017.
John R. Graham,
Acting Assistant Secretary for Planning and Evaluation.

[FR Doc. 2017-13959 Filed 6-30-17; 8:45 am]

BILLING CODE 4150-15-P